DEPARTMENT OF THE INTERIOR

Bureau of Safety and Environmental Enforcement

[Docket ID BSEE-2022-0004; EEEE500000 223E1700D2 ET1SF0000.EAQ000; OMB Control Number 1014-0028]

Agency Information Collection Activities; Well Operations and Equipment

AGENCY: Bureau of Safety and Environmental Enforcement, Interior.

ACTION: Notice of information collection; request for comment.

SUMMARY: In accordance with the Paperwork Reduction Act (PRA) of 1995, the Bureau of Safety and Environmental Enforcement (BSEE) proposes to renew an information collection.

DATES: Interested persons are invited to submit comments on or before March 21, 2022.

ADDRESSES: Send your comments on this information collection request (ICR) by either of the following methods listed below:

• Electronically go to http://www.regulations.gov. In the Search box, enter BSEE-2022-0004 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference OMB Control Number 1014-0028 in the subject line of your comments.

FOR FURTHER INFORMATION CONTACT: To request additional information about this ICR, contact Nicole Mason by email at kye.mason@bsee.gov or by telephone at (703) 787-1607.

SUPPLEMENTARY INFORMATION: In accordance with the PRA and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Regulations governing well operations and equipment are primarily covered in 30 CFR 250, subpart G and are the subject of this collection. In addition, BSEE also issues various Notices to Lessees (NTLs) and Operators to clarify and provide additional guidance on some aspects of the regulations, as well as forms to capture the data and information.

BSEE uses the information to ensure safe drilling, workover, completion, and decommissioning operations and to protect the human, marine, and coastal environment. BSEE analyzes and evaluates these information/requirements to reduce the likelihood of a similar Deepwater Horizon event and to reduce the risk of fatalities, injuries, and spills. BSEE also utilizes these requirements in the approval, disapproval, or modification process for well operations.

Specifically, BSEE uses the information in Subpart G to ensure:

• Certain well designs and operations have been reviewed by appropriate third parties/engineers/classification societies that, after one year, have been approved by BSEE;

• rig tracking data is available to locate rigs during major storms;

• casing or equipment repairs are acceptable and tested;

• up-to-date engineering documents are available;

• the Blowout Preventer (BOP) and associated components are fit for service for its intended use;

• that the BOP will function as intended;

• that BOP components are properly maintained and inspected;

• the proper engineering reviews and approvals for all BOP designs, repairs, and modifications are met.

Rig Movement Notification Report, Form BSEE-0144

We use the information to schedule inspections and verify that the equipment being used complies with approved permits. The information on this form is used by all 3 regions, but primarily in the Gulf of Mexico (GOM), to ascertain the precise arrival and departure of all rigs in OCS waters in the GOM. The accurate location of these rigs is necessary to facilitate the scheduling of inspections by BSEE personnel.

Information on form BSEE-0144:

• General Information—Identifies the date, lease operator, rig name/type/representative, and rig telephone number;

• Rig Arrival Information—Identifies the rig arrival date; what type of work will be scheduled; if the rig is new to OCS and location rig came from; relevant well information; duration of operations, and optional information;

• Rig Departure Information—Identifies the rig departure date, well status, relevant well information, being skidded, obstruction issues, and optional information;

• Rig Stacking Information—Identifies rig arrival/departure date, warm or cold stacked and location, any modification, repairs, or construction and the date, relevant well information, optional information, obstruction issues;

• Certification Statement declaring the information submitted is complete and accurate to the best of signatory's knowledge; and

• BSEE OCS Contact Information.

Title of Collection: 30 CFR 250, Subpart G, Well Operations and Equipment.

OMB Control Number: 1014-0028.

Form Number: Form BSEE-0144, Rig Movement Notification Report.

Type of Review: Extension of a currently approved collection.

Respondents/Affected Public: Potential respondents include Federal OCS oil, gas, and sulfur lessees and/or operators and holders of pipeline rights-of-way.

Total Estimated Number of Annual Respondents: Currently there are approximately 60 Oil and Gas Drilling and Production Operators in the OCS. Not all the potential respondents will submit information in any given year, and some may submit multiple times.

Total Estimated Number of Annual Responses: 43,408.

Estimated Completion Time per Response: Varies from 15 minutes to 2,160 hours, depending on activity.

Total Estimated Number of Annual Burden Hours: 160,842.

Respondent's Obligation: Responses to this collection of information are mandatory; while some are required to obtain or retain a benefit.

Frequency of Collection: Submissions are generally on occasion, daily, weekly, monthly, quarterly, biennially, and as a result of situations encountered depending upon the requirement.

Total Estimated Annual Nonhour Burden Cost: $867,500.

An agency may not conduct, or sponsor and a person is not required to respond to a collection of information unless it displays a currently valid OMB control number.

The authority for this action is the Paperwork Reduction Act of 1995 (44 U.S.C. 3501 et seq.).

Kirk Malstrom,
Chief, Regulations and Standards Branch.

[FR Doc. 2022-00967 Filed 1-19-22; 8:45 am]

BILLING CODE 4310-VH-P